DEPARTMENT OF TRANSPORTATION

Federal Motor Carrier Safety Administration

[Docket No. FMCSA-2010-0378]

Agency Information Collection Activities; Revision of a Currently Approved Information Collection Request: Accident Recordkeeping Requirements

AGENCY: Federal Motor Carrier Safety Administration (FMCSA), DOT.

ACTION: Notice and request for comments.

SUMMARY: In accordance with the Paperwork Reduction Act of 1995 (PRA), FMCSA announces its plan to submit the Information Collection Request (ICR) described below to the Office of Management and Budget (OMB) for its review and approval. The FMCSA requests approval to revise and extend an ICR entitled, “Accident Recordkeeping Requirements.” The collection is necessary for FMCSA to assess the effectiveness of the safety management controls of motor carriers. On September 9, 2010, FMCSA published a Federal Register notice allowing for a 60-day comment period on the ICR. No comment was received.

DATES: Please send your comments by January 13, 2011. OMB must receive your comments by this date in order to act quickly on the ICR.

ADDRESSES: All comments should reference Federal Docket Management System (FDMS) Docket Number FMCSA-2010-0378. Interested persons are invited to submit written comments on the proposed information collection to the Office of Information and Regulatory Affairs, Office of Management and Budget. Comments should be addressed to the attention of the Desk Officer, Department of Transportation/Federal Motor Carrier Safety Administration, and sent via electronic mail to oira_submission@omb.eop.gov, or faxed to (202) 395-6974, or mailed to the Office of Information and Regulatory Affairs, Office of Management and Budget, Docket Library, Room 10102, 725 17th Street, NW., Washington, DC 20503.

FOR FURTHER INFORMATION CONTACT: Mr. Thomas Yager, Chief, Driver and Carrier Operations Division, Office of Bus and Truck Standards and Operations, Federal Motor Carrier Safety Administration, 1200 New Jersey Avenue, SE., Washington, DC 20590-0001. Telephone: 202-366-4325. E-mail: MCPSD@dot.gov.

SUPPLEMENTARY INFORMATION: Title: Accident Recordkeeping Requirements.

OMB Control Number: 2126-0009.

Type of Request: Revision of a currently-approved information collection.

Respondents: Motor carriers engaged in interstate commerce.

Estimated Number of Respondents: 500,000.

Estimated Number of Responses: 75,000.

Estimated Time per Response: 18 minutes.

Expiration Date: February 28, 2011.

Frequency of Response: On occasion.

Estimated Total Annual Burden: 22,500 hours.

Improved FMCSA accident data provides a more accurate estimate of the total responses to this information collection each year: 75,000. The Agency's previous estimate was 106,800 responses. FMCSA retains its prior estimate that a motor carrier requires approximately 18 minutes, on average, to complete the tasks necessary to comply with § 390.15, i.e., collecting the required information about the accident, entering it into the Accident Register and maintaining it and other documents required by § 390.15. Therefore, the annual burden hours for all motor carriers is 22,500 hours (rounded) (75,000 responses x 18 minutes each divided by 60 minutes per hour).

Background: Under the Paperwork Reduction Act of 1995 (44 U.S.C. 3501-3520), Federal agencies must obtain approval from OMB for each IC they conduct, sponsor, or require through regulations. FMCSA has determined that it needs to revise the currently-approved estimate for OMB Control No. 2126-0009, “Accident Recordkeeping Requirements.” The regulation underlying this ICR is 49 CFR 390.15, “Assistance in investigations and special studies.” It requires motor carriers to make all records and information pertaining to specified accidents available to an authorized representative or special agent of the FMCSA upon request, or as part of an inquiry. Interstate motor carriers are required to maintain an Accident Register consisting of specified information about each accident involving their commercial motor vehicles. The information for each accident must include, at a minimum, the following elements: Date of accident, city or town in which or most near where the accident occurred, the State in which the accident occurred, driver name, number of injuries, number of fatalities, and whether hazardous materials, other than fuel spilled from the fuel tanks of motor vehicles involved in the accident, were released. In addition, the register must contain copies of all accident reports required by State or other governmental entities or insurers. Motor carriers must maintain the required information in the Accident Register for 3 years after the date of the accident.

This ICR strengthens FMCSA's ability to assess motor carrier safety performance. These assessments enable FMCSA to direct its enforcement resources to the motor carriers with the weakest safety records, helping those carriers prevent accidents and reduce their severity.

On February 8, 2008, OMB approved FMCSA's estimate for this ICR of 32,040 annual burden hours and established an expiration date for this ICR of February 28, 2011. Today, FMCSA announces its plan to request that OMB approve revision of this estimate to 22,500 annual burden hours.

Definitions: Each of these definitions can be found at 49 CFR 390.5: “Motor carrier”: Any person engaged in a business affecting interstate commerce who owns or leases a commercial motor vehicle in connection with that business, or assigns employees to operate it. “Commercial motor vehicle”: A self-propelled or towed vehicle used on the highways in interstate commerce to transport passengers or property, if the vehicle—(1) Has a gross vehicle weight rating or gross combination weight rating, or gross vehicle weight or gross combination weight of 10,001 pounds, whichever is greater; or (2) Is designed or used to transport more than 8 passengers (including the driver) for compensation; or (3) Is designed or used to transport more than 15 passengers, including the driver, and is not used to transport passengers for compensation; or (4) Is used in transporting material found by the Secretary of Transportation to be hazardous under section 5103 of title 49, United States Code, and transported in a quantity requiring placarding under regulations prescribed by the Secretary under section 5103. “Accident”: an occurrence involving a commercial motor vehicle operating on a highway in interstate or intrastate commerce which results in: (i) A fatality; (ii) bodily injury to a person who, as a result of the injury, receives medical treatment away from the scene of the accident; or (iii) one or more motor vehicles incurring disabling damage as a result of the accident, requiring the motor vehicle(s) to be transported away from the scene by a tow truck or other motor vehicle. The term “accident” does not include: (i) An occurrence involving only boarding or alighting from a stationary motor vehicle or (ii) an occurrence involving only the loading or unloading of cargo.

Public Comments Invited: You are asked to comment on any aspect of this information collection, including: (1) Whether the proposed collection is necessary for the performance of FMCSA's functions; (2) the accuracy of the estimated burden; (3) ways for FMCSA to enhance the quality, usefulness, and clarity of the collected information; and (4) ways that the burden could be minimized without reducing the quality of the collected information. The Agency will summarize or include your comments in the request for OMB's clearance of this information collection.

Issued on: November 30, 2010.
Kelly Leone,
Associate Administrator for Research and Information Technology.

[FR Doc. 2010-31262 Filed 12-13-10; 8:45 am]

BILLING CODE 4910-EX-P